DEPARTMENT OF COMMERCE

Bureau of the Census

Census Scientific Advisory Committee

AGENCY: Bureau of the Census, Department of Commerce.

ACTION: Notice of public meeting.

SUMMARY: The Bureau of the Census (Census Bureau) is giving notice of a meeting of the Census Scientific Advisory Committee (C-SAC). The Committee will address policy, research, and technical issues relating to a full range of Census Bureau programs and activities, including communications, decennial, demographic, economic, field operations, geographic, information technology, and statistics. The C-SAC will meet in a plenary session on September 17-18, 2015. Last minute changes to the schedule are possible, which could prevent giving advance public notice of schedule adjustments. Please visit the Census Advisory Committees Web site for the most current meeting agenda at: http://www.census.gov/cac/. The meeting will be available via webcast at: http://www.census.gov/newsroom/census-live.html or at http://www.ustream.tv/embed/6504322?wmode=direct.

DATES: September 17-18, 2015. On September 17, the meeting will begin at approximately 8:30 a.m. and end at approximately 4:15 p.m. On September 18, the meeting will begin at approximately 8:30 a.m. and end at approximately 12:15 p.m.

ADDRESSES: The meeting will be held at the U.S. Census Bureau Auditorium, 4600 Silver Hill Road, Suitland, Maryland 20746.

FOR FURTHER INFORMATION CONTACT: Kim Collier, Assistant Division Chief for Stakeholders, Customer Liaison and Marketing Services Office, kimberly.l.collier@census.gov, Department of Commerce, U.S. Census Bureau, Room 8H185, 4600 Silver Hill Road, Washington, DC 20233, telephone 301-763-6590. For TTY callers, please use the Federal Relay Service 1-800-877-8339.

SUPPLEMENTARY INFORMATION: Members of the C-SAC are appointed by the Director, U.S. Census Bureau. The Committee provides scientific and technical expertise, as appropriate, to address Census Bureau program needs and objectives. The Committee has been established in accordance with the Federal Advisory Committee Act (title 5, United States Code, Appendix 2, section 10).

All meetings are open to the public. A brief period will be set aside at the meeting for public comment on September 18. However, individuals with extensive questions or statements must submit them in writing to: census.national.advisory.committee@census.gov (subject line “September 2015 C-SAC Meeting Public Comment”), or by letter submission to the Committee Liaison Officer, Department of Commerce, U.S. Census Bureau, Room 8H185, 4600 Silver Hill Road, Washington, DC 20233.

If you plan to attend the meeting, please register by Tuesday, September 15, 2015. You may access the online registration from the following link: https://www.regonline.com/csacseptember2015. Seating is available to the public on a first-come, first-served basis.

This meeting is physically accessible to people with disabilities. Requests for sign language interpretation or other auxiliary aids should also be directed to the Committee Liaison Officer as soon as known, and preferably two weeks prior to the meeting.

Due to increased security and for access to the meeting, please call 301-763-9906 upon arrival at the Census Bureau on the day of the meeting. A photo ID must be presented in order to receive your visitor's badge. Visitors are not allowed beyond the first floor.

Topics to be discussed include the following items:

• 2020 Census Update

○ Census Tests

○ Reorganized Census with Integrated Technology (ROCkIT)

○ Census Enterprise Data Collection and Processing Systems (CEDCaP)

• BIG Data

• Census Surveys

○ Demographic Survey Overview

○ 2017 Economic Census

• Working Groups Reports

○ BIG Data

○ ACS Group Quarters

• Software Development Kit for Building Open Data Apps

Dated: August 20, 2015.
John H. Thompson,
Director, Bureau of the Census.

[FR Doc. 2015-21117 Filed 8-26-15; 8:45 am]

BILLING CODE 3510-07-P